NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act of Title 45 Part 670 of the Code of Federal Regulations. This is the required notice of permit applications received.

DATES: Interested parties are invited to submit written data, comments, or views with respect to these permit applications by May 8, 2000. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 306-1030.

SUPPLEMENTARY INFORMATION: The National Science Foundation, as directed by the Antarctic Conservation Act of 1978 (Public Law 95-541, has developed regulations that implement the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designate Specially Protected Areas and Sites of Special Scientific Interest.

The applications received are as follows:

1. Applicant: Anne A. Sturz, Department of Marine Sciences, University of San Diego, 5998 Alcala Park, San Diego, CA 92110-2492.

Permit Application No: 2001-006.

Activity for Which Permit is Requested: Take, Enter Antarctic Specially Protected Areas and Import into the U.S.A. the applicant proposes to enter Area D (Pendulum Cove) of Antarctic Specially Protected Area #140, Shore of Port Foster, Deception Island, for the purpose of collecting shallow seawater samples, see floor sediments (5 grabs of 50 grams each), 50 grams of sand for chemical analyses for comparison to sea floor sediments, and 1 liter of new snow from the shore at Pendulum Cove. Based on previous samples collected in other areas of Deception Island, the chemical analyses of water column samples indicated that dissolved iron is present as a result of hydrothermal fluid, at least in part from dispersed flow near Pendulum Cove. The chemical analyses of new snow may reveal something about aerosol sources of iron. The applicant will import collected samples into the U.S. for further chemical analyses at the University of San Diego.

Location: ASPA 140—Area D (Pendulum Cove), Port Foster, Deception Island, South Shetland Island.

Dates: May 15, 2000 to June 15, 2000.

Nadene G. Kennedy,
Permit Officer, Office of Polar Programs.

[FR Doc. 00-8852 Filed 4-10-00; 8:45 am]

BILLING CODE 7555-01-M